DEPARTMENT OF ENERGY

Federal Energy Regulatory Commission

[Project No. 13397-000]

Northeast Hydrodevelopment, LLC; Notice of Preliminary Permit Application Accepted for Filing and Soliciting Comments, Motions To Intervene, and Competing Applications

May 4, 2009.

On March 13, 2009, Northeast Hydrodevelopment, LLC filed an application, pursuant to section 4(f) of the Federal Power Act, proposing to study the feasibility of the Mascoma Lake Dam Hydroelectric Project, to be located on the Mascoma River, in Grafton County, New Hampshire. On April 7, 2009, the applicant filed revised Exhibits 1, 4-1a, and 4-3b for the proposed project.

The proposed Mascoma Lake Dam Project would be located Mascoma River channel below the existing outlet works at an existing dam owned by the Granite State Electric Company. The existing dam, which impounds the Mascoma River, is 575 feet long and 18 feet high and includes four 6-foot-wide outlet gates, seven 35-foot-wide stoplog bays atop a 125-foot-long concrete spillway. The impoundment encompasses about 1155 surface acres.

The proposed project would consist of either scenario A: (1) a newly constructed powerhouse at the end of a 80-foot-long canal built in the channel below the existing outlet works; (2) one or two submersible or tubular-type turbine-generators, plus an “environmental” turbine to pass a minimum flow, with a total hydraulic capacity of 500 cubic feet per second and a total installed generating capacity of 0.314 megawatts; (3) a newly excavated 150-foot-long tailrace; (4) an approximately 700-foot-long transmission line; and (5) appurtenant facilities; or scenario B: (1) A new powerhouse would be located at the end of an 800-foot-long penstcock; (2) one or two submersible or tubular-type turbine-generators, plus an “environmental” turbine to pass a minimum flow, with a total hydraulic capacity of 500 cubic feet per second and a total installed generating capacity of 0.539 megawatts; (3) a newly excavated 200-foot-long tailrace; (4) an approximately 400-foot-long transmission line; and (5) appurtenant facilities. The Mascoma Lake Dam Project would have an estimated average annual generation of 2,156 megawatts-hours (MWh), which would be sold to Public Service of New Hampshire.

Applicant Contact: Mr. Norm Herbert, Manager, Northeast Hydrodevelopment, LLC, 100 State Route 101A, Building C, Suite 270, Amherst, New Hampshire 03031, (603) 672-8210.

FERC Contact: John Ramer, (202) 502-8969.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the “eLibrary” link of Commission's Web site at http://www.ferc.gov/docs-filing/elibrary.asp. Enter the docket number (P-13397) in the docket number field to access the document. For assistance, call toll-free 1-866-208-3372.

Kimberly D. Bose,
Secretary.

[FR Doc. E9-10850 Filed 5-8-09; 8:45 am]

BILLING CODE 6717-01-P